DEPARTMENT OF THE INTERIOR

Geological Survey

[GX25DJ70GY10000; OMB Control Number 1028-NEW]

Agency Information Collection Activities: U.S. Geological Survey Generic Clearance for Water Availability Data Collections

AGENCY: U.S. Geological Survey, Department of the Interior.

ACTION: Notice of Information Collection; request for comment.

SUMMARY: In accordance with the Paperwork Reduction Act (PRA) of 1995, the U.S. Geological Survey (USGS) is proposing a new information collection.

DATES: Interested persons are invited to submit comments on or before January 6, 2025.

ADDRESSES: Send your comments on this information collection request (ICR) by mail to U.S. Geological Survey, Information Collections Officer, 12201 Sunrise Valley Drive MS 159, Reston, VA 20192; or by email to gs-info_collections@usgs.gov. Please reference Office of Management and Budget (OMB) Control Number 1028-NEW in the subject line of your comments.

FOR FURTHER INFORMATION CONTACT: To request additional information about this ICR, contact Katrina Alger by email at kalger@usgs.gov or by telephone at 608-828-9901. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the PRA (44 U.S.C. 3501 et seq.) and 5 CFR 1320.8(d)(1), all information collections require approval.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How the agency might minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personally identifiable information (PII) in your comment, you should be aware that your entire comment—including your PII—may be made publicly available at any time. While you can ask us in your comment to withhold your PII from public review, we cannot guarantee that we will be able to do so.

Abstract: Water information is fundamental to national and local economic well-being, protection of life and property, and effective management of the Nation's water resources. The USGS works with partners to monitor, assess, conduct targeted research, and deliver information on a wide range of water resources and conditions, as mandated by the SECURE Water Act of 2009 (Pub. L. 111-11, title IX, subtitle F of the Omnibus Public Land Management Act of 2009). This legislation emphasizes the need for updated, reliable data to support water resource planning and management, and specifically directs the USGS to improve assessments and forecasts of water availability, defined as “the balance between water supply and demand, as determined using a set of core components of water quality, quantity, and use.” This generic clearance will centralize administration of USGS public data collections in the topic area of water availability—encompassing both the supply and demand aspects, as well as water quality, access, and usage patterns—and allow for more systematic and timely collections that will benefit new and ongoing research programs within the Water Resources Mission Area.

The USGS plans a variety of qualitative and quantitative data collection methods under this clearance, which may include surveys, interviews, and focus groups. The exact nature of the instruments and samples is dependent on each individual project and details will be provided for each individual information collection request submitted, following OMB requirements. The bureau commits to ensuring that all collections are voluntary, minimally burdensome, noncontroversial, and only conducted with informed participant consent. All data collected will protect respondent privacy to the extent permitted by law, with a particular emphasis on protecting PII. Any information collected will not be used to influence policy decisions directly and will only be disseminated in aggregated or anonymized formats, adhering to strict guidelines for scientific integrity and privacy. Respondents will be informed of all planned data uses. Measures will be taken to minimize public burden to the greatest extent possible, including review and pre-testing of instruments to ensure clarity and relevance, and using electronic collection means whenever possible.

The research anticipated under this request will be used to advance both the scientific understanding of our socio-hydrological system, and bureau priorities to integrate social science, decision science, and human-centered design more fully into Water Enterprise projects in a strategic, rigorous, and consistent way. Collection of this information supports the USGS by improving both national and regional assessments of water quantity, quality, and use, advancing scientific understanding of how water availability impacts different groups in different ways, informing product development to maximize the utility and usability of USGS water data, and framing future and ongoing research efforts within the Bureau. Outputs are likely to reduce costs and improve outcomes for both the bureau and the public by ensuring our science is conducted efficiently, effectively, and is serving its intended purpose.

Title of Collection: USGS Generic Clearance for Water Availability Data Collections.

OMB Control Number: 1028-NEW.

Form Number: None.

Type of Review: New.

Respondents/Affected Public: State, local, Federal, and Tribal governments; individuals or households; Universities, businesses, or other for-profit organizations; not-for-profit institutions;

Total Estimated Number of Respondents: 10,860.

Estimated Completion Time per Response: Varies from 15 minutes to 2 hours, depending on information collection method.

Total Estimated Number of Annual Burden Hours: 10,000.

Respondent's Obligation: Voluntary.

Frequency of Collection: As needed.

Total Estimated Annual Nonhour Burden Cost: $0.

An agency may not conduct or sponsor, nor is a person required to respond to a collection of information unless it displays a currently valid OMB control number.

Joseph Nielsen,
Director, Integrated Information Dissemination Division, Water Resources Mission Area.

[FR Doc. 2024-25840 Filed 11-6-24; 8:45 am]

BILLING CODE 4338-11-P